DEPARTMENT OF THE TREASURY

Submission for OMB Review; Comment Request

February 4, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 13, 2000 to be assured of consideration.

Departmental Offices/International Portfolio Investment Data Systems/Office of Program Services

OMB Number: 1505-0018.

Form Number: International Capital Form BL-2/BL-2(SA).

Type of Review: Extension.

Title: Treasury International Capital Form BL-2/, Custody Liabilities of Reporting Banks, Brokers and Dealers to Foreigners, Payable in Dollars.

Description: Form BL-2/BL-2(SA) as required by law (22 USC 95a, 22 USC 286f and 3103). It is designed to collect timely and reliable information on U.S. international capital movements, including data on the custody liabilities of banks, other depository institutions, brokers and dealers vis-a-vis foreigners, payable in dollars.

Respondents: Business or other for-profit.

Estimated Number of Respondents: 125.

Estimated Burden Hours Per Respondent: 5 hours.

Frequency of Response: Monthly, Semi-annually.

Estimated Total Reporting Burden: 7,500 hours.

OMB Number: 1505-0020.

Form Number: International Capital Form BQ-2, Parts 1 and 2.

Type of Review: Extension.

Title: Treasury International Capital Form BQ-2:

Part 1: Liabilities to, and Claims on, Foreigners of Reporting Bank, Broker or Dealer; and

Part 2: Domestic Customers' Claims on Foreigners Held by Reporting Bank, Broker or Dealer, Payable in foreign Currencies.

Description: Form BQ-2 is required by law (22 USC 95a, 22 USC 286f and 3103). It is designed to collect timely and reliable information on U.S. international capital movements, including data on liabilities and claims, payable in foreign currencies, of banks, other depository institutions, brokers and dealers, and their domestic customers vis-a-vis foreigners.

Respondents: Business or other for-profit.

Estimated Number of Respondents: 225.

Estimated Burden Hours Per Respondent: 4 hours.

Frequency of Response: Quarterly.

Estimated Total Reporting Burden: 3,600 hours.

Clearance Officer: Lois K. Holland (202) 622-1563, Departmental Offices, Room 2110, 1425 New York Avenue, N.W., Washington, DC 20220.

OMB Reviewer: Alexander T. Hunt (202) 395-7860, Office of Management and Budget, Room 10202, New Executive Office Building, Washington, DC 20503.

Lois K. Holland,
Departmental Reports Management Officer.

[FR Doc. 00-3166 Filed 2-10-00; 8:45 am]

BILLING CODE 4810-25-P